FEDERAL MARITIME COMMISSION

Ocean Transportation Intermediary License; Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 3978F

Name: AIS Gator Exports, Inc.

Address: 201 Springsong Road, Lithia, FL 33547

Date Revoked: May 2, 2002.

Reason: Failed to maintain a valid bond.

License Number: 13273N

Name: ATF Cargo International, Inc.

Address: 1683 Galvez Avenue, San Francisco, CA 94124

Date Revoked: July 21, 2002.

Reason: Failed to maintain a valid bond.

License Number: 4033F

Name: Ayma Cargo Corp.

Address: 10854 NW 29th, Suite 200, Miami, FL 33172

Date Revoked: July 6, 2002.

Reason: Failed to maintain a valid bond.

License Number: 17391N

Name: Amfak Global Services, Inc.

Address: 205 Meadow Road, Edison, NJ 08817

Date Revoked: July 28, 2002.

Reason: Failed to maintain a valid bond.

License Number: 15306N

Name: Buyers Express, Inc.

Address: 6000 Carnegie Blvd., Charlotte, NC 28209

Date Revoked: July 10, 2002.

Reason: Failed to maintain a valid bond.

License Number: 8670N

Name: C.V.S. Enterprises, Inc.

Address: 8390 Faust Avenue, West Hills, CA 91304

Date Revoked: July 10, 2002.

Reason: Failed to maintain a valid bond.

License Number: 11995N

Name: Calinex Shipping, Inc.

Address: 500 W. 140th Street, Gardena, CA 90248

Date Revoked: June 28, 2002.

Reason: Failed to maintain a valid bond.

License Number: 16961N

Name: Cargo Network Express, Inc.

Address: 2801 N.W. 74th Avenue, #216, Miami, FL 33122

Date Revoked: June 9, 2002.

Reason: Failed to maintain a valid bond.

License Number: 16448N

Name: Delpa International Corp.

Address: 7084 N.W. 50th Street, Miami, FL 33166

Date Revoked: August 9, 2002.

Reason: Failed to maintain a valid bond.

License Number: 11959N

Name: ESBO Shipping Inc.

Address: 175-01 Rockaway Blvd., Suite 205, Jamaica, NY 11434

Date Revoked: July 6, 2002.

Reason: Failed to maintain a valid bond.

License Number: 15753N

Name: Eagle Logistics, Inc.

Address: 534 Merrick Road, Suite 1, Lynbrook, NY 11563

Date Revoked: July 24, 2002.

Reason: Failed to maintain a valid bond.

License Number: 16844N

Name: Estes Express Lines, Inc.

Address: P.O. Box 25612, 1100 E. Commerce Road, Richmond, VA 23224

Date Revoked: July 31, 2002.

Reason: Failed to maintain a valid bond.

License Number: 3240F

Name: Freight Connections International, Ltd.

Address: 935 West 175th Street, Homewood, IL 60430-2028

Date Revoked: June 30, 2002.

Reason: Surrendered license voluntarily.

License Number: 13271N

Name: Gallagher Transfer & Storage Company, Inc.

Address: 2401 Elysian Fields Avenue, New Orleans, LA 70117

Date Revoked: July 10, 2002.

Reason: Failed to maintain a valid bond.

License Number: 15134N

Name: Internavigation, Inc.

Address: 229 N. Central Avenue, Suite 609, Glendale, CA 91203

Date Revoked: June 15, 2002.

Reason: Failed to maintain a valid bond.

License Number: 16893N

Name: Jenkar International Freight Ltd. dba American Express Line

Address: 150-30 132nd Avenue, Jamaica, NY 11434

Date Revoked: July 28, 2002.

Reason: Failed to maintain a valid bond.

License Number: 15269N

Name: Marine Logistics Incorporated

Address: 15110 Ripplewind Drive, Houston, TX 77068

Date Revoked: July 25, 2002.

Reason: Failed to maintain a valid bond.

License Number: 17350N

Name: Millenium Transportation Group, Inc.

Address: 1901 E. Lambert Road, Suite 104, La Habra, CA 90631

Date Revoked: August 7, 2002.

Reason: Failed to maintain a valid bond.

License Number: 15655N

Name: Millennium Plus, Inc.

Address: 10910 S. La Cienega Blvd., Inglewood, CA 90304

Date Revoked: August 9, 2002.

Reason: Failed to maintain a valid bond.

License Number: 17498N

Name: Newkor America, Inc. dba Trans Bay

Address: 625 W. Victoria Street, Compton, CA 90220

Date Revoked: August 9, 2002.

Reason: Failed to maintain a valid bond.

License Number: 17135N

Name: Next Day Cargo, Inc.

Address: 8805 N.W. 35th Lane, Miami, FL 33172

Date Revoked: July 25, 2002.

Reason: Failed to maintain a valid bond.

License Number: 16758N

Name: Nextrans International, Inc.

Address: 19550 Dominguez Hills Drive, Rancho Dominguez, CA 90220

Date Revoked: July 7, 2002.

Reason: Failed to maintain a valid bond.

License Number: 13709N

Name: Pac West Trading & Transport, Inc. dba Pacwest Transport

Address: 2531 West 237th Street, Suite 122, Torrance, CA 90505

Date Revoked: August 9, 2002.

Reason: Failed to maintain a valid bond.

License Number: 17497N

Name: Palumbo USA Miami, Inc.

Address: 8405 N.W. 53rd Street, Suite B-220, Koger Center, Athens Bldg., Miami, FL 33166

Date revoked: July 27, 2002.

Reason: Failed to maintain a valid bond.

License number: 12282N

Name: Philippine Islands Cargo Transport, U.S.A.

Address: 542 Sally Lee Avenue, Azusa, CA 91702-5344

Date revoked: July 3, 2002.

Reason: Failed to maintain a valid bond.

License number: 17268N.

Name: RCM International Shipping U.S.A., L.L.C.

Address: 10-C West Access Road, Kenner, LA 70062.

Date revoked: July 18, 2002.

Reason: Failed to maintain a valid bond.

License number: 15926F.

Name: Safcomar Inc.

Address: One Exchange Place, Suite 402, Jersey City, NJ 07302.

Date revoked: June 9, 2002.

Reason: Failed to maintain a valid bond.

License number: 17257N.

Name: Sea-Go International Inc.

Address: 400 Washington Street, Mt. Holly, NJ 08060.

Date revoked: June 28, 2002.

Reason: Failed to maintain a valid bond.

License number: 17505N.

Name: Trans Logistics, Inc. dba World Express

Address: 520 E. Carson Plaza Ct., Suite 205, Carson, CA 90746.

Date revoked: August 1, 2002.

Reason: Failed to maintain a valid bond.

License number: 17836N.

Name: U.S. Sea Wave Express, Inc.

Address: 2931 Plaza Del Amo, #74, Torrance, CA 90503.

Date revoked: August 4, 2002.

Reason: Failed to maintain a valid bond.

License number: 16716N.

Name: Ventana Cargo USA, Inc.

Address: 182-08 149th Avenue, Jamaica, NY 11413.

Date revoked: July 24, 2002.

Reason: Operating without a qualifying individual.

License number: 14235N.

Name: Village Traders, Ltd.

Address: 22428 Thunderbird Place, Hayward, CA 94545.

Date revoked: August 1, 2002.

Reason: Failed to maintain a valid bond.

License number: 6941N.

Name: Worldwide Freight System, Inc.

Address: 2401 Utah Avenue South, Suite 200, Seattle, WA 98275.

Date revoked: July 13, 2002.

Reason: Failed to maintain a valid bond.

Sandra L. Kusumoto,
Director, Bureau of Consumer Complaints and Licensing.

[FR Doc. 02-21335 Filed 8-20-02; 8:45 am]

BILLING CODE 6730-01-P